NATIONAL SCIENCE FOUNDATION

Advisory Committee for Biological Sciences; Committee of Visitors; Notice of Meeting

In accordance with the Federal Advisory Committee Act (Pub. L. 92-463, as amended), the National Science Foundation announces the following meeting:

Name: Advisory for Committee for Biological Sciences; Committee of Visitors (1110)

Date/Time: March 20-22, 2001; 8:30 a.m. to 5:00 p.m.

Place: National Science Foundation, 4201 Wilson Boulevard, Arlington, VA. Rm. 680.

Type of Meeting: Part Open, Part Closed (see Agenda)

Contact Person: Dr. Judith Verbeke, Division of Integrative Biology and Neuroscience, National Science Foundation, 4201 Wilson Boulevard, Arlington, Virginia 22230. Telephone: (703) 292-8420.

Purpose of Meeting: To carry out Committee of Visitors (COV) review, including examination of decisions on proposals, reviewer comments, and other privileged materials.

Agenda: To provide oversight review of the Division of Integrative Biology and Neuroscience. Open Sessions: Tuesday March 20, 8:30-10-30 a.m. Wednesday March 21, noon-1:00 p.m.; Thursday 22, 1:00-2:00 p.m.

Reason for Closing: The meeting has some sessions which are closed to the public, when the Committee is reviewing proposal actions that will include privilege intellectual property and personal information that could harm individuals if disclosed. These matters are exempt under U.S.C. (c)(4) and (6) of the Government in the Sunshine Act.

Dated: February 20, 2001.
Susanne Bolton,
Committee Management Officer.

[FR Doc. 01-4562 Filed 2-23-01; 8:45 am]

BILLING CODE 7555-01-M